DEPARTMENT OF STATE

[Public Notice 4687]

Bureau of Educational and Cultural Affairs Request for Grant Proposals: Africa Workforce Development

SUMMARY: The Office of Citizen Exchanges of the Bureau of Educational and Cultural Affairs (ECA), United States Department of State, announces an open competition for grants to support a series of exchange and partnership development programs promoting “Africa Workforce Development.” U.S. public and private non-profit organizations meeting the provisions described in Internal Revenue Code section 26 U.S.C. 501(c)(3) may submit proposals to develop and implement exchanges involving participants from Sub-Saharan Africa. These U.S. organizations should demonstrate relevant expertise on Sub-Saharan Africa and be able to show the commitment of a partner in that region for development of the program design as well as its implementation. The FY-2004 Consolidated Appropriations Act (PL 108-199) earmarks $400,000 to support Africa Workforce Development Exchanges. ECA anticipates awarding up to three grants of approximately $133,000 each under this competition. Based upon the results of a similar competition conducted in FY-2002, it is anticipated that this will be an intense competition. In FY-2002, two grants totaling approximately $300,000 were awarded to support this initiative out of a total of 16 proposals reviewed. Proposals that clearly demonstrate significant cost sharing—with 20% of the amount requested from ECA as the preferred minimum target—will be judged more competitive. Deadline for post marking submissions is Friday, May 28, 2004.

Important Note: This Request for Grant Proposals contains language in the “Shipment and Deadline for Proposals” section that is significantly different from that used in the past. Please pay special attention to procedural changes as outlined.

Program Information

Overview: The Bureau seeks both to promote workforce development in Africa and mutual understanding between Africans and Americans through exchange programs linking U.S. specialists on workforce development with African counterparts seeking to upgrade the African workforce. A U.S.-African partnership approach is requested to emphasize benefits for both sides and to promote sustainability of effort. Proposals should show learning and contribution on both sides, and there should be roughly equal numbers of persons traveling to and from the U.S. The partnership approach should also help to build a network of counterpart institutions in the U.S. and Africa which invigorate and inform each other, enable collaborations and joint projects, and promote the exchange of information and resources.

The Bureau encourages applicants to consider carefully the choice of target countries. In order to prevent duplication of effort, applicants should research the work of development agencies (such as USAID and UN agencies) on the target themes, and select countries for which there has been limited investment on the issue. Applicants are welcome to contact the Public Affairs Sections (PAS) in U.S. Embassies in Africa, and the Office of Citizen Exchanges in Washington, DC, to discuss proposed activities and their relevance to mission priorities.

Applicants may design single-country or multiple-country projects; however proposals should focus on one or two countries rather than a large group so as to maximize impact with a definable population. The Bureau offers the following programming ideas and suggestions.

Africa Workforce Development: The purpose of this program is to enhance workforce development efforts in Sub-Saharan Africa through professional exchanges that also build mutual understanding between Africans and Americans. Proposals should plan to pursue all of the following purposes: (a) Conduct an analysis of workforce needs in a specified population, (b) develop a strategy to address some of those needs, and (c) carry out enough activities in the strategy to assess its value and (d) lead to refinements and sustainability. In developing and carrying out such a program, we encourage the use of electronic information technologies both as a vehicle for correspondence and training and as a workforce skill to be taught.

The Office realizes that there are many different conceptions of and approaches to workforce development and realizes that the challenge of workforce development is not likely to be addressed fully in rather small exchange programs such as anticipated here. Thus, it will be important for each grant proposal to present a vision for workforce development for a defined population, but then stipulate a specific and manageable set of objectives to be pursued, the activities to be conducted in that pursuit, and performance indicators to be used in measuring progress. While ECA is open to considering a wide variety of program plans, the Bureau will give priority to proposals that do the following:

• Assist citizens in making the transition from academic studies to participation in the workforce;

• Assist citizens in learning skills and attitudes which make them more employable;

• Guide citizens in seeking jobs and in carrying them out satisfactorily;

• Provide training in information technology;

• Develop programs which can be delivered online as well as in person;

• Develop programs which are adaptable to local and individual needs;

• Develop programs which are easily portable and can be replicated in different venues; and

• Develop programs which will attract and maintain the attention of citizens, encouraging their initiative and commitment.

While all of Sub-Saharan Africa is eligible in this solicitation, proposals should focus on one or two countries rather than a large group so as to maximize impact in an observable manner.

In order to assess the capability and long-term commitment of African partners, applicants should consider the possibility of selecting their partners through a competitive process.

Project Guidelines

The Office of Citizen Exchanges of the Bureau of Educational and Cultural Affairs (ECA) consults with and supports American public and private nonprofit organizations in developing and implementing multi-phased, often multi-year, exchanges of professionals, community leaders, scholars, public policy advocates, etc. These exchanges address issues of critical importance to both the United States and to the countries with which the exchanges will be conducted. They encourage substantive and cooperative interaction among counterparts, and they entail both theoretical and experiential learning for all participants. An important goal is the development of sustained, international institutional and individual linkages. In addition to providing a context for professional development and collaborative problem solving, these projects are intended to introduce participants to one another's political, social, and economic structures, facilitating improved communication and enhancing mutual understanding.

Applicants should state expected goals and objectives in the proposal narrative and describe a clear and convincing plan for carrying out a coherent sequence of activities to fulfill them. The Office is particularly interested in grantees measuring and evaluating achievement of goals and objectives. This purpose is described in greater detail in the Review Criteria section of this RFGP.

Suggested activities might include:

1. (If necessary) Initial travel by American organizers for needs assessment, orientation, planning or training to develop contacts and relationships with both American diplomatic mission officers and counterpart organizations/individuals through which the exchange activities will be conducted, and to provide initial consultation and training for African participants.

2. First program session in the African target country (may coincide with needs assessment). American professionals and African partners extend their planning and analysis of needs and conduct (perhaps) training sessions on the subject of their exchange project, and select African participants for further consultation in the U.S.

3. A U.S.-based program, including orientation for African participants to program purposes and to U.S. society, discussions on U.S. approaches and strategy, site visits, additional training of trainers, or limited internships or job shadowing opportunities. This phase might also develop specific action plans to be pursued in the next phase.

4. A return visit by American specialists to collaborate with African participants from the U.S.-based program in conducting additional workshops, seminars, on-site training or other activities.

5. Planning and training programs carried out in the African target country on Workforce Development led by the Africans who have received training in the US.

6. Distance learning techniques using appropriate technology and activities meant to bridge the digital divide are also encouraged to the extent possible.

This program is not primarily academic in nature; it should explain, set and carry out practical activities in pursuit of workforce development. The Office of Citizen Exchanges encourages applicants to be creative and innovative in planning projects. Activities may combine elements of skill enrichment, theoretical orientation, and experiential, community-based initiatives designed to achieve objectives. Activities should provide participants an opportunity to experience each other's culture and may include activities or events hosted by local institutions and home stays with community members.

Eligibility: U.S. public and private non-profit organizations meeting the provisions described in IRS regulation 26 CFR 1.501(c)(3) are eligible to apply. All proposals will receive equal consideration.

Selection of Participants: Proposals should include a description of an open, merit-based participant selection process for all program components requiring selection of individual participants. A draft application form and a sample announcement used for recruitment advertising should be included. For travel to the U.S., priority should be given to participants who have not previously traveled to the United States.

Public Affairs Section Involvement: The Public Affairs Section (PAS) of U.S. Embassies in participating African countries will play an important role in project implementation. These posts will evaluate project proposals, monitor planning between the grantee organization and in-country partners, facilitate in-country activities, nominate participants and vet grantee nominations, observe in-country activities when feasible, debrief participants, and evaluate project impact. Applicants should expect to work closely with the PAS in the target country in selecting participants, and all African exchange participants traveling to the U.S. must be approved by the Embassies. The Embassies retain the right to nominate participants and to advise the grantee regarding participants recommended by other entities.

Embassies will work with grantee organizations to assist Africans nominated for international travel in obtaining the necessary J-1 visas for entry into the United States. Although project design, administration and implementation are the responsibility of the grantee, the grantee is expected to inform the Embassies of its operations and procedures and to coordinate with and involve PAS officers in the development of project activities. The PAS should be consulted regarding country priorities, political and cultural sensitivities, current security concerns, scheduling, and related logistic and programmatic issues.

Adherence to All Regulations Governing the J Visa

In compliance with the terms of 22 CFR 62, which covers the administration of the Exchange Visitor Program (J visa program), the Office of Citizen Exchanges of the Bureau of Educational and Cultural Affairs will be the official program sponsor of exchange programs resulting from this solicitation, and an employee of the Bureau will be the “Responsible Officer” for the program. Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq. The Bureau of Educational and Cultural Affairs places great emphasis on the secure and proper administration of Exchange Visitor (J visa) Programs and adherence by grantee program organizations and program participants to all regulations governing J visa programs. Therefore, proposals should state that the applicant is prepared to assist the Bureau in meeting all requirements governing the administration of Exchange Visitor Programs as set forth in 22 CFR part 62. If the applicant has experience as a designated Exchange Visitor Program Sponsor, the applicant should discuss its record of compliance with 22 CFR part 62 et seq., including oversight of their Responsible Officers and Alternate Responsible Officers, screening and selection of program participants, provision of pre-arrival information and orientation to participants, monitoring of participants, proper maintenance and security of forms, record-keeping, reporting and other requirements. The Office of Citizen Exchanges of ECA will be responsible for issuing the DS-2019 forms to participants in this program. A copy of the complete regulations governing the administration of Exchange Visitor (J) programs is available at http://exchanges.state.gov or from: United States Department of State, Office of Exchange Coordination and Designation, ECA/EC/ECD—SA-44, Room 734, 301 Fourth Street, SW., Washington, DC 20547, Telephone: (202) 401-9810, FAX: (202) 401-9809.

Budget Guidelines

The Bureau expects to award up to three grants, not exceeding $133,000 each, to support program and administrative costs required to implement exchange programs under this competition. Applicants must submit a comprehensive line-item budget based on guidance provided in the Proposal Submission Instructions (PSI) of the Solicitation Package. Grants awarded to organizations with less than four years of experience in conducting international exchange programs will be limited to $60,000. Proposals which clearly demonstrate a significant cost-sharing—with 20% of the amount requested from ECA as the preferred minimum target—will be judged more competitive. For example, an organization requesting $133,000 would be more competitive if the proposal presents at least $26,600 in allowable cost sharing, so that the total program value would be at least $159,600.

Allowable costs include the following:

(1) Direct Program Expenses (including general program expenses, such as orientation and program-related supplies, educational materials, consultants, interpreters, room rental, and evaluation; and participant program expenses, such as medical screening, domestic and international travel and per diem)

(2) Administrative Expenses, including indirect costs (i.e., salaries, telephone/fax, and other direct administrative costs)

(3) Travel costs for visa processing purposes: All foreign participants funded by any grant agreement resulting from this competition must travel on J-1 visas. Failure to secure a J-1 visa for the foreign participant will preclude charging the participant's cost to the grant agreement. Participants will apply for J-1 visas only after the Office of Citizen Exchanges and the mission Public Affairs Section or consulate have approved their participation in this program. The Office of Citizen Exchanges will issue DS-2019 forms and deliver to foreign program participants through the mission Public Affairs Section. All J visas for African program visitors must be issued by the consular offices in the target country, so proposals should include costs for potential participants to travel to those offices to pick up DS-2019 forms and for visa interviews and processing.

Please refer to the Solicitation Package for complete budget guidelines and formatting instructions. Instructions for downloading the Solicitation Package are provided below.

Announcement Title and Number

All correspondence with the Bureau concerning this RFGP should reference the above title and number: ECA/PE/C/NEA-AF-04-57.

To Download a Solicitation Package Via Internet

The entire Solicitation Package (Request for Grant Proposal and Proposal Submission Instructions), may be downloaded from the Bureau's Web site: http://exchanges.state.gov/education/rfgps.

Please read all information before downloading. If you are unable to download the Solicitation Package from the Department of State ECA Web site, you may request a copy, which contains required application forms, specific budget instructions, and standard guidelines for proposal preparation, from the Office of Citizen Exchanges.

New OMB Requirement

An OMB policy directive published in the Federal Register on Friday, June 27, 2003, requires that all organizations applying for Federal grants or cooperative agreements must provide a Dun and Bradstreet (D&B) Data Universal Numbering System (DUNS) number when applying on or after October 1, 2003. The complete OMB policy directive can be referenced at http://www.whitehouse.gov/omb/fedreg/062703_grant_identifier.pdf. Please also visit the ECA Web site at http://exchanges.state.gov/education/rfgps/menu.hum for additional information on how to comply with this new directive.

FOR FURTHER INFORMATION CONTACT: The Office of Citizen Exchanges, ECA/PE/C/NEA-AF, U.S. Department of State, 301 Fourth St., SW., Room 216, Washington, DC 20547, Attention: Jim Ogul; Telephone number: 202/205-0535; fax number: 202/619-4350; Internet e-mail address: ogulje@state.gov.

Organizations planning to submit proposals are encouraged to contact the program office for consultation. Before doing so, applicants should read the complete Federal Register announcement and be prepared to discuss concrete matters specific to the guidelines set forth in this request for grant proposals (RFGP). Once the RFGP deadline has passed, Bureau staff may not discuss this competition with applicants until the proposal review process has been completed.

Shipment and Deadline for Proposals

Important Note: The deadline for postmarking proposals in this competition is Friday, May 28, 2004. In light of recent events and heightened security measures, proposal submissions must be made via a nationally recognized overnight delivery service (i.e., DHL, Federal Express, UPS, Airborne Express, or U.S. Postal Service Express Overnight Mail, etc.) and be shipped no later than the above deadline.

The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadline will be ineligible for consideration under this competition. It is each applicant's responsibility to ensure that each package is marked with a legible tracking number and to monitor and confirm delivery to ECA. Delivery of proposal packages may not be made via local courier service or in person for this competition. Faxed documents will not be accepted at any time. Only proposals submitted as stated above will be considered.

Applicants must follow all instructions in the Solicitation Package. The original and 9 copies of the proposal should be sent to: U.S. Department of State, SA-44, Bureau of Educational and Cultural Affairs, Ref.: ECA/PE/C/NEA-AF-04-57, Program Management, ECA/EX/PM, Room 534, 301 Fourth St., SW., Washington, DC 20547. Applicants must also submit the “Executive Summary,” “Proposal Narrative,” and “Budget” sections of the proposal in text (.txt) format on a PC-formatted disk. ECA will transmit these files electronically to the Public Affairs Sections of the relevant U.S. Embassies for review.

Diversity, Freedom and Democracy Guidelines

Pursuant to ECA's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the Program Office, as well as by Public Affairs Sections from target countries in Sub-Saharan Africa, and the State Department's Africa Area Public Diplomacy office. Eligible proposals will be forwarded to panels of State Department officers for advisory review. Proposals may also be reviewed by the Office of the Legal Advisor or by other Department elements. Final funding decisions are at the discretion of the Department of State's Assistant Secretary for Educational and Cultural Affairs. Final technical authority for assistance awards (grants or cooperative agreements) resides with the Bureau's Grants Officer.

Review Criteria

Technically eligible applications will be competitively reviewed according to the criteria stated below. These criteria are not rank-ordered and all carry equal weight in proposal evaluation.

1. Quality of Program Idea: Proposals should be substantive, coherent, focused on issues of demonstrable relevance to proposed participants and objectives, and responsive to the program suggestions and guidelines described above. Specific goals and subsidiary objectives should be delineated which are achievable and relevant to African workforce development. Both workforce development in Africa and mutual understanding between Americans and Africans should be pursued.

2. Implementation Plan and Ability to Achieve Objectives: A detailed implementation plan should establish a clear and logical connection between the interest, the expertise, and the logistic capacity of the applicant and the objectives to be achieved. In order to facilitate program planning and later evaluation, each objective delineated should be specifically linked to a program goal, should be attainable in a specified time frame, and should be observable directly or indirectly. The proposal should explain, in concrete terms, how the institution plans to achieve the objectives. Institutional resources—including personnel—assigned to the project should be adequate and appropriate. The substance of workshops and site visits should be spelled out, and the responsibilities of U.S. participants and in-country partners should be clearly described. There should be roughly equal numbers of Americans going to Africa and Africans coming to the U.S. in this program.

3. Multiplier Effect/Impact: Proposed programs should show an expansion of impact from direct participants to a wider population, strengthen long-term mutual understanding, and advance maximum sharing of information and establishment of sustainable institutional and individual linkages.

4. Institution's Record/Ability: Proposals should include an institutional record of successful exchange programs, with reference to responsible fiscal management and full compliance with reporting requirements.

5. Cost Effectiveness: Administrative costs should be kept to a minimum, and all budgetary line items should be reasonable and allowable.

6. Cost Sharing: Proposals which clearly demonstrate significant cost sharing—with 20% of the amount requested from ECA as the preferred minimum target—will be judged more competitive. Cost sharing may be provided through in-cash and in-kind contributions from the U.S. and partner organization(s).

7. Program Evaluation: The Office of Citizen Exchanges is giving greater attention to program evaluation than before in order to better determine program impact and to help in selecting future program designs for support. Proposals should spell out a plan to evaluate both implementation and outcome of the proposed program, and we urge the employment of an independent, expert evaluator. There should be an assessment of each major activity or phase of the program and a summary evaluation of impact conducted six months or more after the end of other program activities.

Successful evaluation depends heavily on setting clear goals and objectives at the outset of a program. The more that objectives are “smart” (specific, measurable, attainable, results-oriented, and placed in a reasonable time frame), the easier it will be to track and assess impact. In addition at the outset, a standard or target of acceptable performance should be proposed for each objective.

Although some exchange program goals and objectives may be difficult to quantify, we urge applicants to identify indicators and observational techniques to associate with all objectives so that program progress and outcome can be observed. Evaluation should distinguish between program outputs (i.e., the number of activities or participants that are supported) and program outcomes or results (e.g., changes in knowledge, skill, behavior, policies, etc., which result from the program).

For evaluating results, one approach might be to state objectives in behavioral terms with outcome measured by behavioral changes. Another approach might assess changes in knowledge and skill and attitude through comparison of test results at the beginning and at the end of a set of program activities. Yet another approach might compare the knowledge, behavior, or attitudes of participants in the program with a similar group that did not participate in it. Overall, an evaluation plan will be judged more satisfactory the more that it specifies (a) a distinct population with which to work, (b) a manageable set of workforce development objectives and time line for that population, (c) clear descriptions of performance indicators for each objective, (d) measurement tools for collecting data, (e) a methodology for aggregating observations, and (f) inference strategies for interpreting data. We recommend providing draft evaluation instruments such as questionnaires.

8. Support of Diversity: Proposals should demonstrate an understanding and support of ECA's policy on diversity. Program content (orientation, evaluation, program sessions, resource materials, follow-on activities) and program administration (selection process, orientation, evaluation) should address diversity in a comprehensive and relevant manner. A program may be designed for a narrowly defined audience (e.g., rural women with no more than primary education) if there is a rationale in choosing such targeting and a program plan which respects the Bureau's policy on diversity. Applicants should refer to ECA's Diversity, Freedom and Democracy Guidelines on page four of the Proposal Submission Instructions (PSI).

Authority

Overall grant-making authority for this program is contained in the Mutual Educational and Cultural Exchange Act of 1961, Public Law 87-256, as amended, also known as the Fulbright-Hays Act. The purpose of the Act is “to enable the Government of the United States to increase mutual understanding between the people of the United States and the people of other countries; to strengthen the ties which unite us with other nations by demonstrating the educational and cultural interests, developments, and achievements of the people of the United States and other nations and thus to assist in the development of friendly, sympathetic and peaceful relations between the United States and other countries of the world.”

Notice

The terms and conditions published in this RFGP are binding and may not be modified by any Bureau representative. Explanatory information provided by the Bureau or program officers that contradicts published language will not be binding. Issuance of the RFGP does not constitute an award commitment on the part of the U.S. Government. The Bureau reserves the right to reduce, revise, or increase proposal budgets in accordance with the needs of the program and the availability of funds. Awards made will be subject to periodic reporting and evaluation requirements. Organizations will be expected to cooperate with the Bureau in evaluating their programs under the principles of the Government Performance and Results Act (GPRA) of 1993, which requires federal agencies to measure and report on the results of their programs and activities.

Notification

Final awards cannot be made until funds have been appropriated by Congress, allocated and committed through internal Bureau procedures.

Dated: April 6, 2004.
C. Miller Crouch,
Principal Deputy Assistant Secretary, Bureau of Educational and Cultural Affairs, Department of State.

[FR Doc. 04-8466 Filed 4-14-04; 8:45 am]

BILLING CODE 4710-05-P